DEPARTMENT OF TRANSPORTATION

Federal Aviation Administration

Automatic Dependent Surveillance-Broadcast (ADS-B) Link Decision

AGENCY: Federal Aviation Administration (FAA), DOT.

ACTION: Notice of FAA Public Meetings on ADS-B Link Decision.

SUMMARY: The FAA is issuing this notice to advise the public of a meeting to: (1) provide an update on the progress that has been made toward making a decision on the link architecture to be used for enabling Automatic Dependent Surveillance-Broadcast (ADS-B) as a surveillance technology within the National Airspace System; and (2) to share with industry the results of the technical assessments that will be used by the FAA as the basis for making the decision on the ADS-B link architecture.

DATES: The meeting will be held on October 19, 2001, from 9:00 am to 2:20 pm.

ADDRESSES: The meeting will be held in conference rooms 6244-6248 on the sixth floor of the Department of Transportation Headquarters Building, 400 7th Street, SW., Washington, DC. Meeting participants should use the entrance at the southeast corner of the building.

FOR FURTHER INFORMATION CONTACT: (1) Ron Jones, CNS Systems Branch, ADS-140, Federal Aviation Administration, 800 Independence Avenue SW., Washington, DC 20591; telephone (202) 358-5345; e-mail ronnie.jones@faa.gov; Ms. Kelly Weathers, Management Assistant, ADS-140, Federal Aviation Administration, 800 Independence Avenue SW., Washington, DC 20591; telephone (202) 358-5271; fax (202) 358-4922; e-mail kelly.weathers@faa.gov.

SUPPLEMENTARY INFORMATION: This will be the third public meeting held by the FAA on the subject of the ADS-B link architecture decision. The first meeting was held on June 6, 2001, and the second on June 25-26, 2001. The briefing materials from these prior ADS-B link decision meetings are available on the following website: http://adsb.tc.faa.gov/ADS-B/186-subf.htm. The purpose of the October 19, 2001, meeting is to: (1) review the most recent results of the evaluations of the alternative ADS-B link technologies and architectures versus the required functional, performance and operational capabilities; (2) review the results of the economic assessments of the core set of alternate ADS-B link architecture scenarios. The meeting outcome will be to provide the aviation industry better insight into the factors that are expected to be the basis for the future FAA decision on the ADS-B link architecture. The agenda for the meeting will include:

• Introductions and Objectives

• Baseline ADS-B Requirements

• ADS-B Link Architecture Alternatives

• Overview of the Results of the Assessment of the Funcational/Performance/Operational Capabilities of the ADS-B Link Architecture Alternatives

• Overview of the Cost Benefit Analysis of Alternative ADS-B Link Architecture Scenarios

• Summary and Plans for Moving Forward with an ADS-B Link Architecture Decision

Attendance is open to the interested public but limited to space availability. Persons wishing to attend or obtain information should contact the (2) person listed in the FOR FURTHER INFORMATION CONTACT section, and provide their name, company or organization, address, phone number, fax number and e-mail address.

Issued in Washington, DC, on August 31, 2001.
John A. Scardina,
Director, FAA Office of System Architecture and Investment Analysis.

[FR Doc. 01-22775 Filed 9-10-01; 8:45 am]

BILLING CODE 4910-13-M